DEPARTMENT OF TRANSPORTATION

Federal Aviation Administration

Notice of Intent To Rule on Application 05-09-C-00-CVG To Impose and Use the Revenue From a Passenger Facility Charge (PFC) at Cincinnati/Northern Kentucky International Airport, Covington, KY

AGENCY: Federal Aviation Administration (FAA), DOT.

ACTION: Notice of intent to rule on application.

SUMMARY: The FAA proposes to rule and invites public comment on the application to impose and use the revenue from a PFC at Cincinnati/Northern Kentucky International Airport under the provisions of the 49 U.S.C. 40117 and Part 158 of the Federal Aviation Regulations (14 CFR part 158).

DATES: Comments must be received on or before June 6, 2005.

ADDRESSES: Comments on this application may be mailed or delivered in triplicate to the FAA at the following address: Memphis Airports District Office, 2862 Business Park Dr., Bldg. G, Memphis, Tennessee 38118-1555. In addition, one copy of any comments submitted to the FAA must be mailed or delivered to Mr. Robert F. Holscher, Director of Aviation of the Kenton County Airport Board at the following address: P.O. Box 752000, Cincinnati, Ohio 45275-2000.

Air carriers and foreign air carriers may submit copies of written comments previously provided to the Kenton County Airport Board under section 158.23 of Part 158.

FOR FURTHER INFORMATION CONTACT: Mr. Jerry O. Bowers, Airports Program Manager, Memphis Airports District Office, 2862 Business Park Dr., Bldg. G, Memphis, Tennessee 38118-1555, (901) 322-8184. The application may be reviewed in person at this same location.

SUPPLEMENTARY INFORMATION: The FAA proposes to rule and invites public comment on the application to impose and use the revenue from a PFC at Cincinnati/Northern Kentucky International Airport under the provisions of the 49 U.S.C. 40117 and part 158 of the Federal Aviation Regulations (14 CFR Part 158).

On April 28, 2005, the FAA determined that the application to impose and use the revenue from a PFC submitted by Kenton County Airport Board was substantially complete within the requirements of section 158.25 of part 158. The FAA will approve or disapprove the application, in whole or in part, no later than August 13, 2005.

The following is a brief overview of the application.

Proposed charge effective date: January 1, 2009.

Proposed charge expiration date: October 1, 2010.

Level of the proposed PFC: $3.00.

Total estimated PFC revenue: $47,222,000.

Brief description of proposed project(s): 1—Extend Terminal Access/Service Road From Donaldson Road to Hossman Road; 2—Snow Equipment Replacements; 3—Deicing Trucks (2); 4—Crash Truck, Replace #970 1990 Crash Truck; 5—Quick Response Truck, Replace #967 1995 Quick Response Truck; 6—KR 212 Interchange (Airport Access) Improvements-Planning/Design; 7—Airport Security Master Plan (11 projects); 8—Sound Insulation of Schools and Churches; 9—Upgrade Runway 18R (Proposed 18C) and 18L ILS to Cat II (including ALSF II)-Environmental and Design; 10—Upgrade Terminal 3 and Concourses A, B and C Paging/Sound Systems; 11—Terminal 1 and Concourse Redevelopment Project Planning/Design; 12—Deicing Enhancements (2 projects); 13—Terminal 2 Improvements; 14—Surface Movement Guidance and Control System (SMGCS); 15—Driver's Training Simulator; 16—CCTV Digital Recording System Upgrade; 17—Runway 9/27 Rehabilitation; 18—Runway 18R/36L (Proposed 18C/36C) Rehabilitation; 19—Security Screening Building for Concourse C—Planning and Preliminary Design; 20—Apron/Taxi Lane Pavement Rehabilitation—Phase I; and 21—ID Electronic Fingerprinting Equipment and Required ID Department Building Modifications.

Class or classes of air carriers which the public agency has requested not be required to collect PFCs: (1) FAR Part 121 supplemental operators which operate at the Airport without an operating agreement with the Board and enplane less than 1,500 passengers per year and (2) Part 135 on-demand air taxis, both fixed wing and rotary.

Any person may inspect the application in person at the FAA office listed above under FOR FURTHER INFORMATION CONTACT and at the FAA regional Airports office located at: 1701 Columbia Avenue, College Park, Georgia 30337.

In addition, any person may, upon request, inspect the application, notice and other documents germane to the application in person at the Kenton County Airport Board.

Issued in Memphis, Tennessee, on April 28, 2005.
LaVerne F. Reid,
Manager, Memphis Airports District Office, Southern Region.

[FR Doc. 05-9041 Filed 5-5-05; 8:45 am]

BILLING CODE 4910-13-M